DEPARTMENT OF TRANSPORTATION

National Advisory Committee on Travel and Tourism Infrastructure; Notice of Public Meeting

AGENCY: Office of the Secretary of Transportation, Department of Transportation.

ACTION: Notice of public meeting.

SUMMARY: This notice announces a meeting of the National Advisory Committee on Travel and Tourism Infrastructure (NACTTI).

DATES: The meeting will be held on December 4, from 9:30 a.m. to 5:00 p.m., and December 5, 2018, from 9:30 a.m. to 12:00 p.m., EDT.

ADDRESSES: The meeting will be held at the U.S. Department of Transportation, 1200 New Jersey Avenue SE, Washington, DC 20590. Individuals wishing for audio participation and any person requiring accessibility accommodations should contact the Official listed in the next section.

FOR FURTHER INFORMATION CONTACT: David Short, Designated Federal Officer, U.S. Department of Transportation, at NACTTI@dot.gov or (202) 366-8822. Also visit the NACTTI internet website at http://www.transportation.gov/NACTTI.

SUPPLEMENTARY INFORMATION:

I. Background

NACTTI was created in accordance with Section 1431 of the Fixing America's Surface Transportation (FAST) Act (Pub. L. 114-94: Dec. 4, 2015; 129 Stat. 1312) to provide information, advice, and recommendations to the Secretary of Transportation on matters related to the role of intermodal transportation in facilitating mobility related to travel and tourism activities.

II. Agenda

At the December 4-5, 2018, meeting, the agenda will cover the following topics:

• Recap of October meeting

• Subcommittee Discussion of Activities and Draft Recommendations

• Public Participation

• Review and Vote on Subcommittee Recommendations

• Presentation of NACTTI Recommendations

A final agenda will be posted on the NACTTI internet website at http://www.transportation.gov/NACTTI at least one week in advance of the meeting.

III. Public Participation

The meeting will be open to the public on a first-come, first served basis, as space is limited. Members of the public who wish to attend in-person are asked to register, including name and affiliation, to NACTTI@dot.gov by November 20, 2018. Individuals requesting accessibility accommodations, such as sign language, interpretation, or other ancillary aids, may do so via email at: NACTTI@dot.gov by November 20, 2018.

There will be 30 minutes allotted for oral comments from members of the public joining the meeting. To accommodate as many speakers as possible, the time for public comments may be limited to five minutes per person. Individuals wishing to reserve speaking time during the meeting must submit a request at the time of registration, as well as the name, address, and organizational affiliation of the proposed speaker. If the number of registrants requesting to make statements is greater than can be reasonably accommodated during the meeting, the Office of the Secretary may conduct a lottery to determine the speakers. Speakers are requested to submit a written copy of their prepared remarks by 5:00 p.m. EDT on November 20, 2018, for inclusion in the meeting records and for circulation to NACTTI members. Written comments timely submitted from those not selected to speak will nonetheless be accepted and considered as part of the record.

Persons who wish to submit written comments for consideration by NACTTI during the meeting must submit them no later than 5:00 p.m. EDT on November 20, 2018, to ensure transmission to NACTTI prior to the meeting. Comments received after that date and time will be distributed to the members but may not be reviewed prior to the meeting.

Copies of the meeting minutes will be available on the NACTTI internet website at http://www.transportation.gov/NACTTI.

Dated: October 4, 2018.
Joel Szabat,
Deputy Assistant Secretary for Aviation and International Affairs.

[FR Doc. 2018-22001 Filed 10-9-18; 8:45 am]

BILLING CODE 4910-9X-P